DEPARTMENT OF TRANSPORTATION

Federal Aviation Administration

14 CFR Part 39

[Docket No. FAA-2004-19765; Directorate Identifier 2002-NM-72-AD; Amendment 39-13971; AD 2005-03-15]

RIN 2120-AA64

Airworthiness Directives; BAE Systems (Operations) Limited Model BAe 146 Series Airplanes and Model Avro 146-RJ Series Airplanes

AGENCY: Federal Aviation Administration (FAA), Department of Transportation (DOT).

ACTION: Final rule.

SUMMARY: The FAA is adopting a new airworthiness directive (AD) for certain BAE Systems (Operations) Limited Model BAe 146 series airplanes and Model Avro 146-RJ series airplanes. This AD requires repetitive inspections to detect discrepancies of the fuselage skin and reinforcing plates along the wing to fuselage fairing access panels on the left- and right-hand sides of the airplane, and repair if necessary. This AD also provides for an optional terminating action for the repetitive inspections. This AD is prompted by a report of chafing on the wing to fuselage fairing panels. We are issuing this AD to prevent chafing of the fuselage skin and reinforcing plates, which could lead to reduced structural integrity of the airplane's fuselage.

DATES: This AD becomes effective March 21, 2005.

The incorporation by reference of certain publications listed in the AD is approved by the Director of the Federal Register as of March 21, 2005.

ADDRESSES: For service information identified in this AD, contact British Aerospace Regional Aircraft American Support, 13850 Mclearen Road, Herndon, Virginia 20171. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19765; the directorate identifier for this docket is 2002-NM-72-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The FAA proposed to amend 14 CFR Part 39 with an AD for certain BAE Systems (Operations) Limited Model BAe 146 series airplanes and Model Avro 146-RJ series airplanes. That action, published in the Federal Register on December 7, 2004 (69 FR 70564), proposed to require repetitive inspections to detect discrepancies of the fuselage skin and reinforcing plates along the wing to fuselage fairing access panels on the left- and right-hand sides of the airplane, and repair if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 65 airplanes of U.S. registry. The inspection will take about 4 work hours per airplane, at an average labor rate of $65 per work hour. Based on these figures, the estimated cost of the AD for U.S. operators is $16,900, or $260 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-03-15 BAE Systems (Operations) Limited (Formerly British Aerospace Regional Aircraft): Amendment 39-13971. Docket No. FAA-2004-19765; Directorate Identifier 2002-NM-72-AD.

Effective Date

(a) This AD becomes effective March 21, 2005.

Affected ADs

(b) None.

Applicability

(c) This AD applies to BAE Systems (Operations) Limited Model BAe 146 series airplanes and Model Avro 146-RJ series airplanes; certificated in any category; on which modification HCM01037A has been incorporated.

Unsafe Condition

(d) This AD was prompted by a report of chafing on the wing to fuselage fairing panels. We are issuing this AD to prevent chafing of the fuselage skin and reinforcing plates, which could lead to reduced structural integrity of the airplane's fuselage.

Compliance

(e) You are responsible for having the actions required by this AD performed within the compliance times specified, unless the actions have already been done.

Service Bulletin

(f) The term “service bulletin,” as used in this AD, means the Accomplishment Instructions of BAE Systems (Operations) Limited Inspection Service Bulletin ISB.53-162, dated September 12, 2001.

Repetitive Detailed Inspections

(g) Prior to the accumulation of 8,000 total flight cycles, or within 500 flight cycles after the effective date of this AD, whichever occurs later, do a detailed inspection to detect discrepancies (i.e., chafing outside the limits specified in the service bulletin, scoring, or cracking) of the fuselage skin and reinforcing plates along the wing to fuselage fairing access panels on the left- and right-hand sides of the airplane, in accordance with the service bulletin. Repeat the detailed inspection thereafter at intervals not to exceed 4,000 flight cycles, until the terminating action specified in paragraph (i) of this AD has been done.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Corrective Action

(h) If any discrepancy is found during the detailed inspection required by paragraph (g) of this AD, before further flight, repair according to a method approved by either the Manager, International Branch, ANM-116, FAA, Transport Airplane Directorate; or the Civil Aviation Authority (CAA) (or its delegated agent).

Optional Terminating Action and Follow-On Inspections

(i) Modify the fuselage skin at the wing-to-fuselage access panels, do the related repetitive investigative action, and do applicable corrective actions by accomplishing all the actions in accordance with the Accomplishment Instructions of BAE Systems (Operations) Limited Modification Service Bulletin SB.53-162-01698A, Revision 1, dated January 31, 2002. These actions terminate the repetitive inspections required by paragraph (g) of this AD. Repeat the related repetitive investigative action (which involves inspecting the protective tape and sealant for damage) thereafter at intervals not to exceed 4,000 flight cycles.

No Reporting

(j) Although the service bulletin referenced in this AD specifies to submit an inspection report, this AD does not include that requirement.

Alternative Methods of Compliance (AMOCs)

(k) The Manager, International Branch, ANM-116, has the authority to approve AMOCs for this AD, if requested in accordance with the procedures found in 14 CFR 39.19.

Related Information

(l) British airworthiness directive 002-09-2001 also addresses the subject of this AD.

Material Incorporated by Reference

(m) You must use BAE Systems (Operations) Limited Inspection Service Bulletin ISB.53-162, dated September 12, 2001, to perform the actions that are required by this AD, unless the AD specifies otherwise. You must use BAE Systems (Operations) Limited Modification Service Bulletin SB.53-162-01698A, Revision 1, dated January 31, 2002, to perform the optional terminating actions specified in this AD. The Director of the Federal Register approves the incorporation by reference of this document in accordance with 5 U.S.C. 552(a) and 1 CFR part 51. For copies of the service information, contact British Aerospace Regional Aircraft American Support, 13850 Mclearen Road, Herndon, Virginia 20171. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on January 31, 2005.
Kalene C. Yanamura,
Acting Manager, Transport Airplane Directorate, Aircraft Certification Service.

[FR Doc. 05-2576 Filed 2-11-05; 8:45 am]

BILLING CODE 4910-13-P